DEPARTMENT OF JUSTICE

Notice of Lodging of Consent Decree Under the Comprehensive Environmental Response, Compensation, and Liability Act

Notice is hereby given that on November 13, 2007, a proposed Consent Decree in United States v. Wilhelm Enterprises Corp., et al., Civil Action No. 07-CV-765, was lodged with the United States District Court for the Western District of New York.

The proposed Consent Decree will settle the United States' claims on behalf of the U.S. Environmental Protection Agency (“EPA”) against 16 defendants pursuant to Sections 106 and 107 of the Comprehensive Environmental Response, Compensation, and Liability Act (“CERCLA”), 42 U.S.C. 9606 and 9607, with respect to the Peter Cooper (Markhams) Superfund Site, located in the Hamlet of Markhams, Town of Dayton, Cattaraugus County, New York. The defendants include: Wilhelm Enterprises Corporation; Brown Shoe Company, Inc.; Seton Company; GST AutoLeather; Prime Tanning Company, Inc.; Viad Corporation; ConAgra Grocery Products Company, Inc.; Leucadia National Corporation; Beggs & Cobb Corporation; Wolverine Worldwide, Inc.; Genesco, Inc.; Albert Trostel & Sons Co.; Blackhawk Leather Ltd.; Eagle Ottawa, LLC; S.B. Foot Tanning Company; and Horween Leather Company (“Settling Defendants”). Pursuant to the Consent Decree, Settling Defendants will pay a total of $511,000 in reimbursement of the United States' response costs for the Site, plus interest. In addition, 12 of the Settling Defendants will finance and perform the remedy selected by EPA for the Site, estimated to cost $1.3 million.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Wilhelm Enterprises Corp., et al., Civil Action No. 07-CV-765, D.J. Ref. 90-11-2-06887/4.

The proposed Consent Decree may be examined at the Office of the United States Attorney, Western District of New York, 128 Delaware Avenue, Buffalo, New York 14202, and at EPA, Region 2, 290 Broadway, New York, New York 10007-1866. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting a copy by mail from the Consent Decree Library, please enclose a check in the amount of $84.25 ($0.25 per page reproduction cost) payable to the United States Treasury or, if requesting by e-mail or fax, forward the check in that amount to the Consent Decree Library at the address stated above. If requesting a copy exclusive of exhibits, please enclose a check in the amount of $22.25 ($0.25 per page reproduction cost) payable to the United States Treasury.

Ronald Gluck,
Assistant Chief, Environmental Enforcement Section, Environment and Natural Resources Division.

[FR Doc. 07-5869 Filed 11-27-07; 8:45 am]

BILLING CODE 4410-15-M